DEPARTMENT OF THE INTERIOR

National Park Service

[2253-665]

Notice of Inventory Completion: University of Colorado Museum, Boulder, CO

AGENCY: National Park Service, Interior.

ACTION: Notice.

SUMMARY: The University of Colorado Museum has completed an inventory of human remains and associated funerary objects, in consultation with the appropriate Indian tribes, and has determined that there is a cultural affiliation between the human remains and associated funerary objects and present-day Indian tribes. Representatives of any Indian tribe that believes itself to be culturally affiliated with the human remains and associated funerary objects may contact the University of Colorado Museum. Repatriation of the human remains and associated funerary objects to the Indian tribes stated below may occur if no additional claimants come forward.

DATES: Representatives of any Indian tribe that believes it has a cultural affiliation with the human remains and associated funerary objects should contact the University of Colorado Museum at the address below by August 22, 2011.

ADDRESSES: Steve Lekson, Curator of Anthropology, University of Colorado Museum, in care of Jan Bernstein, NAGPRA Consultant, Bernstein & Associates, 1041 Lafayette St., Denver, CO 80218, telephone (303) 894-0648.

SUPPLEMENTARY INFORMATION: Notice is here given in accordance with the Native American Graves Protection and Repatriation Act (NAGPRA), 25 U.S.C. 3003, of the completion of an inventory of human remains and associated funerary objects in the possession and control of the University of Colorado Museum, Boulder, CO. The human remains and associated funerary objects were removed from Bell County, KY, and Summers County, WV.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by University of Colorado Museum professional staff in consultation with representatives of the Absentee-Shawnee Tribe of Indians of Oklahoma; Cherokee Nation, Oklahoma; Chickasaw Nation, Oklahoma; Eastern Band of Cherokee Indians of North Carolina; Eastern Shawnee Tribe of Oklahoma; Shawnee Tribe, Oklahoma; and United Keetoowah Band of Cherokee Indians in Oklahoma.

History and Description of the Remains

On an unknown date, human remains representing a minimum of two individuals were removed from a cave near Pineville, in Bell County, KY, by Gervis W. Hoofnagle (1886-1959), an avocational archeologist. No known individuals were identified. The associated funerary objects are five non-human rib bones (four of which have been modified to come to a point at one end).

Mr. Hoofnagle's widow, Alice G. Hoofnagle, sold his collection to the University of Colorado Museum in March 1961. In February 2008, the human remains and associated funerary objects were found in the museum. Based on reasonable evidence provided during consultation, the human remains are Native American. The same evidence supports cultural affiliation to all three Federally-recognized Cherokee tribes—Cherokee Nation, Oklahoma; Eastern Band of Cherokee Indians of North Carolina; and United Keetoowah Band of Cherokee Indians in Oklahoma. Traditional Cherokee burials are found in rock crevices and caves; traditional Cherokee burials include non-human bones such as the sharpened rib bones found with this burial. A portion of Bell County, KY, is within the aboriginal territory of the Cherokee based on a final judgment of the Indian Claims Commission. In addition, Bell County, KY, is within the aboriginal territory of the Cherokee based on reasonable evidence presented during consultation.

On an unknown date, human remains representing a minimum of one individual were removed from Burial 2, Farley site, on the New River, near Hinton, in Summers County, WV, by Hoofnagle (1886-1959). No known individual was identified. The associated funerary objects are two bear teeth.

This individual was part of the Hoofnagle collection sold to the University of Colorado Museum in March 1961. Based on tooth wear and the associated funerary objects, the human remains are Native American. During consultation, reasonable evidence was presented in support of Summers County, WV, being within the aboriginal territory of the Cherokee. Also during consultation, reasonable evidence was presented in support of continuity in the utilization of animal parts, such as bear teeth, in traditional Cherokee burials.

Determinations Made by the University of Colorado Museum

Officials of the University of Colorado Museum have determined that:

• Pursuant to 25 U.S.C. 3001(9), the human remains described above represent the physical remains of three individuals of Native American ancestry.

• Pursuant to 25 U.S.C. 3001(3)(A), the seven objects described above are reasonably believed to have been placed with or near individual human remains at the time of death or later as part of the death rite or ceremony.

• Pursuant to 25 U.S.C. 3001(2), there is a relationship of shared group identity that can be reasonably traced between the Native American human remains and associated funerary objects and the Cherokee Nation, Oklahoma; Eastern Band of Cherokee Indians of North Carolina; and United Keetoowah Band of Cherokee Indians in Oklahoma.

Additional Requestors and Disposition

Representatives of any other Indian tribe that believes itself to be culturally affiliated with the human remains and associated funerary objects should contact Steve Lekson, Curator of Anthropology, University of Colorado Museum, in care of Jan Bernstein, NAGPRA Consultant, Bernstein & Associates, 1041 Lafayette St., Denver, CO 80218, telephone (303) 894-0648, before August 22, 2011. Repatriation of the human remains and associated funerary objects to the Cherokee Nation, Oklahoma; Eastern Band of Cherokee Indians of North Carolina; and United Keetoowah Band of Cherokee Indians in Oklahoma, may proceed after that date if no additional claimants come forward.

The University of Colorado Museum is responsible for notifying the Absentee-Shawnee Tribe of Indians of Oklahoma; Cherokee Nation, Oklahoma; Chickasaw Nation, Oklahoma; Eastern Band of Cherokee Indians of North Carolina; Eastern Shawnee Tribe of Oklahoma; Shawnee Tribe, Oklahoma; and United Keetoowah Band of Cherokee Indians in Oklahoma, that this notice has been published.

Dated: July 14, 2011.
Sherry Hutt,
Manager, National NAGPRA Program.

[FR Doc. 2011-18353 Filed 7-20-11; 8:45 am]

BILLING CODE 4312-50-P